ENVIRONMENTAL PROTECTION AGENCY

40 CFR Part 52

[EPA-R03-OAR-2024-0152; FRL-11858-02-R3]

Air Plan Approval; Maryland; Determination of Attainment by the Attainment Date for the 2010 1-Hour Primary Sulfur Dioxide National Ambient Air Quality Standard

AGENCY: Environmental Protection Agency (EPA).

ACTION: Final rule.

SUMMARY: The Environmental Protection Agency (EPA) is taking final action to determine that the Anne Arundel and Baltimore County sulfur dioxide (SO2) nonattainment area attained the 2010 1-hour SO2 primary national ambient air quality standard (2010 SO2 NAAQS) by the applicable attainment date of September 12, 2021. This determination is based on certified ambient air quality data from the 2018-2020 monitoring period, relevant modeling analysis, and additional emissions inventory information. This action addresses the EPA's obligation under Clean Air Act (CAA) section 179(c) to determine whether the Anne Arundel and Baltimore County SO2 nonattainment area (referred to hereafter as the Anne Arundel-Baltimore County Area, or simply the Area) attained the 2010 SO2 NAAQS by the September 12, 2021 attainment date.

DATES: This final rule is effective on January 6, 2025.

ADDRESSES: EPA has established a docket for this action under Docket ID Number EPA-R03-OAR-2024-0152. All documents in the docket are listed on the www.regulations.gov website. Although listed in the index, some information is not publicly available, e.g., confidential business information (CBI) or other information whose disclosure is restricted by statute. Certain other material, such as copyrighted material, is not placed on the internet and will be publicly available only in hard copy form. Publicly available docket materials are available through www.regulations.gov, or please contact the person identified in the FOR FURTHER INFORMATION CONTACT section for additional availability information.

FOR FURTHER INFORMATION CONTACT: Philip McGuire, Planning & Implementation Branch (3AD30), Air & Radiation Division, U.S. Environmental Protection Agency, Region III, 1600 John F Kennedy Boulevard, Philadelphia, Pennsylvania 19103. The telephone number is (215) 814-2251. Mr. McGuire can also be reached via electronic mail at mcguire.philip@epa.gov.

SUPPLEMENTARY INFORMATION:

I. Background

On September 6, 2024 (89 FR 72770), the EPA published a notice of proposed rulemaking (NPRM) for the State of Maryland. In the NPRM, the EPA proposed to determine that the Anne Arundel-Baltimore County Area had attained the 2010 1-hour SO2 primary NAAQS by the applicable attainment date of September 12, 2021. During the comment period for the EPA's NPRM, open from September 6, 2024 to October 7, 2024, the EPA received no comments.

This action addresses the EPA's obligation under CAA section 179(c) to determine whether the Anne Arundel-Baltimore County Area attained the 2010 SO2 NAAQS by the September 12, 2021 attainment date. Notably, a determination of attainment by the attainment date does not constitute a redesignation of an area to attainment for the 2010 SO2 NAAQS under section 107(d)(3) of the CAA. The area will remain designated nonattainment for the 2010 SO2 NAAQS until the state formally requests redesignation of the area to attainment, the EPA takes formal action to determine that the area meets CAA requirements for redesignation, and the EPA approves an accompanying state-submitted maintenance plan that ensures the area will continue to meet the NAAQS for the successive 10-year period.

II. Summary of Determination and EPA Analysis

CAA section 179(c)(1) requires the EPA to “determine, based on the area's air quality as of the attainment date, whether the area attained the standard by that date.” As discussed in the NPRM, the EPA used an integrated analysis based on SO2 emissions data, ambient air quality monitoring data, and the EPA's 2022 clean data determination modeling analysis (based on 2019-2021 SO2 emissions) in making this determination of attainment by the attainment date for the Anne-Arundel Baltimore County Area.

The EPA finds that the integrated analysis of multiple types of air-quality related information supports the determination and is consistent with CAA section 179(c)(1)'s direction to determine the area's air quality as of the attainment date. Specifically, reduced SO2 emissions within the Area from 2012 to 2020, no exceedances of the 2010 1-hour SO2 NAAQS at monitoring sites within the Area since 2012, and the EPA's modeling analysis (based on 2019-2021 SO2 emissions) predicting a maximum design value within the Area that is well below the NAAQS all provide supporting bases for the EPA's determination of attainment by the attainment date. Further details on the EPA's analysis are available in the NPRM related to this action. The comment period for this NPRM ended on October 7, 2024.

III. Final Action

The EPA conducted an analysis, described in detail in the NPRM related to this action, to determine if the Anne Arundel-Baltimore County Area attained the 2010 1-hour SO2 NAAQS by the September 12, 2021 attainment date. Based on that analysis and the information presented in the NRPM, the EPA is determining that the Anne Arundel-Baltimore County Area attained the 2010 1-hour SO2 NAAQS by the applicable attainment date of September 12, 2021, consistent with CAA section 179(c)(1).

On September 6, 2024 (89 FR 72770), the EPA published an NPRM proposing to determine that the Anne Arundel-Baltimore County Area attained the NAAQS by the September 12, 2021 attainment date. The EPA sought public comment on the proposed determination and received no comments.

This action does not constitute a redesignation of the Anne Arundel-Baltimore County Area to attainment for the 2010 1-hour SO2 NAAQS under CAA section 107(d)(3). The classification and designation status in 40 CFR part 81 will remain nonattainment until the state formally requests redesignation of the area to attainment, the EPA takes formal action to determine that the area meets CAA requirements for redesignation under section 107(d)(3)(E), and the EPA approves an accompanying state-submitted maintenance plan pursuant to section 175A that ensures the area will continue to meet the NAAQS for the successive 10-year period.

IV. Statutory and Executive Order Reviews

A. General Requirements

This action determines an area has attained the NAAQS by the relevant attainment date and does not impose additional or modify existing requirements. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, this action does not have tribal implications as specified by Executive Order 13175 (65 FR 67249, November 9, 2000), because it is not approved to apply in Indian country located in the State, and the EPA notes that it will not impose substantial direct costs on tribal governments or preempt tribal law. Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The EPA did not perform an EJ analysis and did not consider EJ in this action. Due to the nature of the action being taken here, this action is expected to have a neutral to positive impact on the air quality of the affected area. Consideration of EJ is not required as part of this action, which finds that a nonattainment area attained the 2010 SO2 NAAQS by the applicable attainment date, and there is no information in the record inconsistent with the stated goal of E.O. 12898 of achieving environmental justice for people of color, low-income populations, and Indigenous peoples.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by February 4, 2025. Filing a petition for reconsideration by the Administrator of this final rule does not affect the finality of this action for the purposes of judicial review nor does it extend the time within which a petition for judicial review may be filed, and shall not postpone the effectiveness of such rule or action. This action, the determination of attainment by the attainment date for the Anne Arundel-Baltimore County SO2 nonattainment area, may not be challenged later in proceedings to enforce its requirements. (See section 307(b)(2).)

List of Subjects in 40 CFR Part 52

Environmental protection, Air pollution control, Incorporation by reference, Intergovernmental relations, Reporting and recordkeeping requirements, Sulfur oxides.

Adam Ortiz,
Regional Administrator, Region III.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart V—Maryland

2. Amend § 52.1082 by adding paragraph (m) to read as follows:

§ 52.1082 Determinations of attainment.

* * * * *

(m) The EPA has determined, as of January 6, 2025, that based on 2018-2020 monitoring data, relevant modeling analysis, and additional emissions inventory information, the Anne Arundel and Baltimore County SO2 nonattainment area has attained the 2010 1-hour SO2 primary NAAQS by the applicable attainment date of September 12, 2021.

[FR Doc. 2024-27865 Filed 12-5-24; 8:45 am]

BILLING CODE 6560-50-P